DEPARTMENT OF ENERGY

Federal Energy Regulatory Commission

[Docket No. CP02-416-000]

Williams Gas Pipelines Central Incorporated; Notice of Site Visit

November 6, 2002.

On November 12, 2002, Office of Energy Projects staff will participate in a site visit to the area proposed for construction of a natural gas pipeline by Williams Gas Pipelines Central Incorporated for its Southwest Missouri Expansion Project, in Kansas and Missouri, in the above-referenced docket. The site visit will begin at 12:30 p.m. from the Pizza Hut on Highway 69/7 in Columbus, Kansas. All interested parties may attend the site visit. Those planning to attend must provide their own transportation. Anyone interested in additional information on the site visit may contact the Commission's Office of External Affairs at 1-866-208-FERC.

Magalie R. Salas,
Secretary.

[FR Doc. 02-28769 Filed 11-12-02; 8:45 am]

BILLING CODE 6717-01-P